DEPARTMENT OF HEALTH AND HUMAN SERVICES

Centers for Disease Control and Prevention

[Announcement Number 00033]

Childhood Lead Poisoning Prevention Programs (CLPPP) Notice of Availability of Funds; Amendment

A notice announcing the availability of Fiscal Year 2000 funds to fund a cooperative agreement program for new State and competing continuation State and local programs which was published in the Federal Register on February 10, 2000, [Vol. 65, No. 28, Pages 6607-6613]. The notice is amended as follows:

On page 6610, First Column, under Section F. Submission and Deadline, the submission due date should read on or before April 12, 2000.

Dated: February 11, 2000.
John L. Williams,
Director, Procurement and Grants Office, Centers for Disease Control and Prevention (CDC).

[FR Doc. 00-3788 Filed 2-16-00; 8:45 am]

BILLING CODE 4163-18-P